Proclamation 8987 of May 24, 2013

Prayer for Peace, Memorial Day, 2013

By the President of the United States of America

A Proclamation

Since our Nation's earliest days, America has been blessed with an unbroken chain of patriots who have served our country with honor and distinction. From Concord to the Korengal, generations of brave warriors have fought for freedom across sand and snow, over mud and mountains, into lonely deserts and through crowded streets. Today, we pay tribute to those patriots who never came back—who fought for a home to which they never returned, and died for a country whose gratitude they will always have.

Scripture teaches us that “greater love hath no man than this, that a man lay down his life for his friends.” On Memorial Day, we remember those we have lost not only for what they fought for, but who they were: proud Americans, often far too young, guided by deep and abiding love for their families, for each other, and for this country. Our debt to them is one we can never fully repay. But we can honor their sacrifice and strive to be a Nation equal to their example. On this and every day, we must meet our obligations to families of the fallen; we must uphold our sacred trust with our veterans, our service members, and their loved ones.

Above all, we can honor those we have lost by living up to the ideals they died defending. It is our charge to preserve liberty, to advance justice, and to sow the seeds of peace. With courage and devotion worthy of the heroes we remember today, let us rededicate ourselves to those unending tasks, and prove once more that America's best days are still ahead. Let us pray the souls of those who died in war rest in eternal peace, and let us keep them and their families close in our hearts, now and forever.

In honor of all of our fallen service members, the Congress, by a joint resolution approved May 11, 1950, as amended (36 U.S.C. 116), has requested the President issue a proclamation calling on the people of the United States to observe each Memorial Day as a day of prayer for permanent peace and designating a period on that day when the people of the United States might unite in prayer. The Congress, by Public Law 106-579, has also designated 3:00 p.m. local time on that day as a time for all Americans to observe, in their own way, the National Moment of Remembrance.

NOW, THEREFORE, I, BARACK OBAMA, President of the United States of America, do hereby proclaim Memorial Day, May 27, 2013, as a day of prayer for permanent peace, and I designate the hour beginning in each locality at 11:00 a.m. of that day as a time to unite in prayer. I also ask all Americans to observe the National Moment of Remembrance beginning at 3:00 p.m. local time on Memorial Day.

I request the Governors of the United States and the Commonwealth of Puerto Rico, and the appropriate officials of all units of government, to direct that the flag be flown at half-staff until noon on this Memorial Day on all buildings, grounds, and naval vessels throughout the United States and in all areas under its jurisdiction and control. I also request the people of the United States to display the flag at half-staff from their homes for the customary forenoon period.

IN WITNESS WHEREOF, I have hereunto set my hand this twenty-fourth day of May, in the year of our Lord two thousand thirteen, and of the Independence of the United States of America the two hundred and thirty-seventh.

[FR Doc. 2013-12983

Filed 5-29-13; 11:15 am]

Billing code 3295-F3